DEPARTMENT OF COMMERCE

International Trade Administration

[C-533-888, C-570-105]

Carbon and Alloy Steel Threaded Rod From India and the People's Republic of China: Final Results of the Expedited First Sunset Review of the Countervailing Duty Orders; Correction

AGENCY: Enforcement and Compliance, International Trade Administration, Department of Commerce.

ACTION: Notice; correction.

SUMMARY: The U.S. Department of Commerce (Commerce) published notice in the Federal Register of March 11, 2025 in which Commerce published the final results of the expedited first sunset review of the countervailing duty orders on carbon and alloy steel threaded rod from India and the People's Republic of China (China). This notice incorrectly identified the subsidy rates likely to prevail for Ningbo Zhongjiang High Strength Bolts Co., Ltd. and Zhejiang Junyue Standard Part Co., Ltd.

FOR FURTHER INFORMATION CONTACT: Charles Hooker, Trade Agreements Policy and Negotiations, Enforcement and Compliance, International Trade Administration, U.S. Department of Commerce, 1401 Constitution Avenue NW, Washington, DC 20230; telephone: (202) 482-6299.

SUPPLEMENTARY INFORMATION:

Background

On March 11, 2025, Commerce published in the Federal Register the final results of the expedited first sunset review of the countervailing duty orders on carbon and alloy steel threaded rod from India and China.¹ We incorrectly identified the net countervailable subsidy rates likely to prevail for Ningbo Zhongjiang High Strength Bolts Co., Ltd. and Zhejiang Junyue Standard Part Co., Ltd.²

¹ See Carbon and Alloy Steel Threaded Rod from India and the People's Republic of China: Final Results of the Expedited First Sunset Review of the Countervailing Duty Orders, 90 FR 11708 (March 11, 2025).

² Commerce also incorrectly identified the net countervailable subsidy rates in the Issues and Decision Memorandum. See Carbon and Alloy Steel Threaded Rod from India and the People's Republic of China: Final Results of the Expedited First Sunset Review of the Countervailing Duty Orders, 90 FR 11708 (March 11, 2025), and accompanying Issues and Decision Memorandum at 14.

Correction

In the Federal Register of March 11, 2025, in FR Doc 2025-03825, on page 11709, in the section titled, “Final Results of Sunset Reviews”, in the second table, under the heading titled, “Net countervailable subsidy rate (percent ad valorem)”, in the entry for Ningbo Zhongjiang High Strength Bolts Co., Ltd, correct the rate from “69.20” to “31.68”, and in the entry for Zhejiang Junyue Standard Part Co., Ltd, correct the rate from “31.20” to “69.20”.

Notification to Interested Parties

This notice is issued and published in accordance with sections 751(c), 752(b), and 777(i)(1) of the Tariff Act of 1930, as amended, and 19 CFR 351.221(c)(5)(ii).

Dated: April 18, 2025.
Christopher Abbott,
Deputy Assistant Secretary for Policy and Negotiations, performing the non-exclusive functions and duties of the Assistant Secretary for Enforcement and Compliance.

[FR Doc. 2025-07081 Filed 4-23-25; 8:45 am]

BILLING CODE 3510-DS-P